DEPARTMENT OF COMMERCE

National Oceanic and Atmospheric Administration

50 CFR Part 622

[Docket No. 180427420-8420-02]

RIN 0648-BH92

Fisheries of the Caribbean, Gulf of Mexico, and South Atlantic; Reef Fish Fishery of the Gulf of Mexico; Revisions to Sea Turtle Release Gear; Amendment 49

Correction

In rule document 2019-10052, appearing on pages 22383 through 22389, in the issue of Friday, May 17, 2019 make the following correction:

On page 22388, in the first column, in paragraph 12(a), on the last line, “3/4≤” should read “3/4”.

[FR Doc. C1-2019-10052 Filed 5-29-19; 8:45 am]

BILLING CODE 1301-00-D